DEPARTMENT OF DEFENSE

Department of the Air Force

Notice of Intent To Prepare an Environmental Impact Statement (EIS) for Construction and Operation of a Panoramic Survey Telescope and Rapid Response System (Pan-STARRS) at the Summit of Mauna Kea, HI

AGENCY: Department of the Air Force, DOD.

ACTION: Notice of intent.

SUMMARY: Pursuant to the National Environmental Policy Act (NEPA) of 1969, as amended (42 United States Code 4321, et. seq.), the Council on Environmental Quality Regulations for implementing the procedural provisions of NEPA (40 Code of Federal Regulation (CFR) Parts 1500-1508), and U.S. Air Force (USAF) policy and procedures (32 CFR part 989), the USAF is issuing this notice to advise the public of its intent to prepare an EIS evaluating potential environmental impacts associated with construction and operation of the proposed Panoramic Survey Telescope and Rapid Response System (Pan-STARRS) by the University of Hawaii (UH) Institute for Astronomy (IfA). Public scoping meetings will be held to assist in identifying reasonable alternatives, their potential impacts and the relative significance of impacts to be analyzed in the EIS.

Pan-STARRS is a USAF-funded, UH IfA research program to discover, characterize and track Near-Earth Objects (NEOs), primarily asteroids and comets, whose trajectories pass close enough to Earth that they may pose a danger of collision. Pan-STARRS could also map the large-scale structure of the Universe, searching for astronomical objects that move or change such as exploding stars, variable stars, and planets around other stars. The Pan-STARRS design involves four individual wide-field optical systems, each with a dedicated digital camera. The digital cameras would be the largest ever built. Each night Pan-STARRS would image one-fifth of the visible sky, allowing it to survey the entire visible sky once per week. Exposed images would be downloaded through existing data transmission infrastructure to a UH-operated computer facility for processing and analysis. The UH IfA intends to publish the data generated. Since 2002, the USAF has funded UH IfA's research into the technology behind Pan-STARRS, including fabrication of a single optical system prototype unit and its installation into an existing observatory on Maui. Although the USAF would fund its construction, the Pan-STARRS facility would be owned, operated, and maintained by UH IfA and used for IfA-directed research.

The EIS will analyze three alternatives: rebuilding an existing IfA observatory for Pan-STARRS use at the preferred site on Mauna Kea on the island of Hawaii, constructing a new observatory at an undeveloped site on Haleakala on the island of Maui, and the No Action alternative. The EIS will be prepared as a joint federal-state document in compliance with both NEPA and the State of Hawaii Environmental Impact Statements law (Chapter 343, Hawaii Revised Statutes). Biological resources of concern to be addressed in the EIS include the rare Wekiu bug (Nysius wekiucola) on Mauna Kea and the ‘ua’u (Hawaiian petrel) on Haleakala. Cultural resources of concern include prehistoric or historic districts, archeological sites, shrines, trails, cultural objects and Traditional Cultural Properties with links to cultural and religious practices of Native Hawaiians; possible human remains issues; sacred sites; landscapes; and broader variables of aesthetics. The USAF intends to use the EIS process and documentation to fulfill its National Historic Preservation Act, Section 106 consultation requirements (36 CFR 800.8).

The USAF and UH will host public scoping meetings on the Islands of Hawaii, Maui and Oahu in late January or early February to solicit public participation in this environmental analysis. Exact dates, times and location(s) of meetings will be announced through local media. The scoping process will help identify the full range of reasonable alternatives, potential impacts and key issues to be emphasized in the environmental analysis. Recognizing that open communication of issues is a critical element of the EIS process, the USAF and UH intend to ensure that the scoping experience is meaningful and productive for all participants. Accordingly, the project team is putting strong emphasis on an EIS process that fosters beneficial dialogue and relationship building among all stakeholders, particularly those in the native Hawaiian community. Handicap assistance and translation service will be made available; please provide requests in advance to the point of contact listed below.

Oral and written comments presented at the public scoping meetings, as well as written comments received by the USAF during this scoping period and throughout the EIS process, will be considered in the preparation of the EIS. To ensure the USAF has sufficient time to consider public input in preparation of the Draft EIS, written comments should be submitted to the address below by 28 Feb 07. Letters and other written or oral comments received may be published in the EIS along with the names of the individuals making the comments. (Personal home addresses and phone numbers will not be published.) As required by law, comments will be addressed in the EIS and made available to the public. Private addresses will only be used to develop a mailing list of those individuals requesting copies of the EIS.

FOR FURTHER INFORMATION CONTACT: Please direct any written comments or requests for information to Mr. Juventino Garcia, Office of Public Affairs, AFRL/DEO, 3550 Aberdeen Ave., SE., Kirtland AFB, NM 87117-5776 (Phone: 505-846-4583; e-mail Juventino.Garcia@kirtland.af.mil). Handicap assistance and translation service at the public meetings are available in advance through Mr. Garcia.

Bao-Anh Trinh,
DAF Air Force Federal Register Liaison Officer.

[FR Doc. E7-169 Filed 1-9-07; 8:45 am]

BILLING CODE 5001-05-P